CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burdens (time and financial resources) are minimized, collection instruments are clearly understood, and the impact of collection requirements on respondents can be properly assessed.

Currently, CNCS is soliciting comments concerning its proposed AmeriCorps Child Care Program Information Collection. The AmeriCorps Child Care Benefit Program is available for qualified, active, full-time AmeriCorps State and National, VISTA and NCCC (including FEMA Corps) Members who need the Child Care benefit to serve. Child Care benefits are paid directly to qualified child care providers for all or part of the member's child care costs during their active time of service with AmeriCorps. The information collection is requested of AmeriCorps Members who are applying for the benefit; information collected is used to determine a member's eligibility based upon statutory, regulatory, and program eligibility requirements. In addition, the information collection is requested of the child care providers; information collection is used determine a child care provider's eligibility. Copies of the information collection request can be obtained by contacting the office listed in the Addresses section of this Notice.

DATES: Written comments must be submitted to the individual and office listed in the ADDRESSES section by June 15, 2015.

ADDRESSES: You may submit comments, identified by the title of the information collection activity, by any of the following methods:

(1) By mail sent to: Corporation for National and Community Service, Attention Jennifer Veazey, Project Manager, Room 9506A; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Jennifer Veazey, (202) 606-6770, or by email at jveazey@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information collection is requested of AmeriCorps Members who are applying for the benefit (or in some cases, member of their households); information collected is used to determine a member's eligibility based upon statutory, regulatory, and program eligibility requirements. In addition, the information collection is requested of the child care providers to determine a child care provider's eligibility to provide the child care service.

Information is collected via hardcopy and electronically through an online application system.

Current Action

CNCS seeks to renew the current AmeriCorps Child Care Application and add four new instruments: The AmeriCorps Member Application, Attendance Sheet, Member Update Form, and Statement of Work Activities.

The information collection will otherwise be used in the same manner as the existing application. The current application is due to expire on 7/31/2015.

Type of Review: Renewal.

Agency: Corporation for National and Community Service.

Title: AmeriCorps Child Care Program Forms.

OMB Number: 3045-0142.

Agency Number: None.

Affected Public: AmeriCorps Members and Child Care Providers.

Total Respondents: 1,400 total: 700 AmeriCorps Members and 700 Child Care Providers.

Frequency: Annual.

Average Time per Response

AmeriCorps Member Application: 60 minutes.

Member Update Form: 5 minutes.

Statement of Work Activities Form (completed by Member): 10 minutes.

AmeriCorps Child Care Provider Application: 40 minutes.

Attendance Sheet (completed by Provider and signed by Member): 20 minutes.

Estimated Total Burden Hours: 1,575 hours.

Total Burden Cost (capital/startup): None.

Total Burden Cost (operating/maintenance): None.

Comments submitted in response to this notice will be summarized and/or included in the request for Office of Management and Budget approval of the information collection request; they will also become a matter of public record.

Dated: April 14, 2015.
Erin Dahlin,
Deputy Chief of Program Operations.

[FR Doc. 2015-08657 Filed 4-14-15; 08:45 am]

BILLING CODE 6050-28-P